COMMODITY FUTURES TRADING COMMISSION

17 CFR Part 1

RIN 3038-AD53

Adaptation of Regulations to Incorporate Swaps; Correction

AGENCY: Commodity Futures Trading Commission.

ACTION: Correcting amendments.

SUMMARY: On November 2, 2012, the Commodity Futures Trading Commission revised its rules. That document inadvertently failed to remove several obsolete provisions in the regulation. This document corrects the final regulations.

DATES: Effective on June 29, 2018.

FOR FURTHER INFORMATION CONTACT: Jacob Chachkin, Special Counsel, 202-418-5496, email: jchachkin@cftc.gov, Division of Swap Dealer and Intermediary Oversight, Commodity Futures Trading Commission.

SUPPLEMENTARY INFORMATION: In the Federal Register of November 2, 2012 (77 FR 66287), the Commodity Futures Trading Commission published final rules adopting new regulations to implement particular provisions of the Commodity Exchange Act, as added by the Dodd-Frank Wall Street Reform and Consumer Protection Act. That document inadvertently failed to remove several obsolete provisions in § 1.33(a)(2) and (b)(3). Accordingly, the Commission is making a correcting amendment to § 1.33 that removes the second paragraph (a)(2)(ii), removes paragraph (a)(2)(v), and removes the introductory clause to paragraph (b)(3).

List of Subjects in 17 CFR Part 1

Agricultural commodity, Agriculture, Brokers, Committees, Commodity futures, Conflicts of interest, Consumer protection, Definitions, Designated contract markets, Directors, Major swap participants, Minimum financial requirements for intermediaries, Reporting and recordkeeping requirements, Swap dealers, Swaps.

Accordingly, 17 CFR part 1 is corrected by making the following correcting amendments:

PART 1—GENERAL REGULATIONS UNDER THE COMMODITY EXCHANGE ACT

1. The authority citation for part 1 continues to read as follows:

Authority: 7 U.S.C. 1a, 2, 5, 6, 6a, 6b, 6c, 6d, 6e, 6f, 6g, 6h, 6i, 6k, 6l, 6m, 6n, 6o, 6p, 6r, 6s, 7, 7a-1, 7a-2, 7b, 7b-3, 8, 9, 10a, 12, 12a, 12c, 13a, 13a-1, 16, 16a, 19, 21, 23, and 24 (2012).

2. Amend § 1.33 as follows:

a. Revise paragraph (a)(2); and

b. Revise paragraph (b)(3) introductory text.

The revisions read as follows:

§ 1.33 Monthly and confirmation statements.

(a) * * *

(2) For each commodity option position and foreign option position—

(i) All commodity options and foreign options purchased, sold, exercised, or expired during the monthly reporting period, identified by underlying futures contract or underlying commodity, strike price, transaction date, and expiration date;

(ii) The open commodity option and foreign option positions carried for such customer or foreign futures or foreign options customer as of the end of the monthly reporting period, identified by underlying futures contract or underlying commodity, strike price, transaction date, and expiration date;

(iii) All open commodity option and foreign option positions marked to the market and the amount each position is in the money, if any; and

(iv) Any related customer funds carried in such customer's account(s) or any related foreign futures or foreign options secured amount carried in the account(s) of a foreign futures or foreign options customer.

* * * * *

(b) * * *

(3) A written confirmation of each commodity option transaction, containing at least the following information:

* * * * *

Dated: June 15, 2018.
Robert N. Sidman,
Deputy Secretary of the Commission.

[FR Doc. 2018-13256 Filed 6-28-18; 8:45 am]

BILLING CODE 6351-01-P